DEPARTMENT OF DEFENSE

Office of the Secretary

[Transmittal Nos. 13-08]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-08 with attached transmittal, policy justification, and Sensitivity of Technology.

Dated: May 20, 2013.
Aaron Siegel,
Alternate OSD Federal Register Liaison Officer, Department of Defense.

BILLING CODE 5001-06-P

BILLING CODE 5001-06-C

Transmittal No. 13-08

Notice of Proposed Issuance of Letter of Offer Pursuant to Section 36(b)(1) of the Arms Export Control Act, as amended

(i) Prospective Purchaser: Qatar

(ii) Total Estimated Value:

Major Defense Equipment* | $ 45 million
Other | $ 65 million
TOTAL | $110 million

(iii) Description and Quantity or Quantities of Articles or Services under Consideration for Purchase: 2 AN/AAQ-24(V) Large Aircraft Infrared Countermeasures (LAIRCM) Systems for B747-800 Aircraft, 11 Small Laser Transmitter Assemblies, 3 System Processors/Repeaters, 14 AN/AAR-54 Missile Warning Sensors, User Data Module Cards and Control Interface Units, Multi-role Electro-Optic End-to-End test set, Card Memory, Smart Cards, and Support Equipment, Consumables, and Flight Test/Certification. Also included are tools and test equipment, support equipment, spare and repair parts, publications and technical documents, personnel training and training equipment, U.S. Government and contractor technical assistance, and other related elements of logistics and program support.

(iv) Military Department: Air Force (QAF)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 14 May 2013

* As defined in Section 47(6) of the Arms Export Control Act.

POLICY JUSTIFICATION

Qatar—AN/AAQ-24(V) Large Aircraft Infrared Countermeasures (LAIRCM) Systems

The Government of Qatar has requested a possible sale of 2 AN/AAQ-24(V) Large Aircraft Infrared Countermeasures (LAIRCM) Systems for B747-800 Aircraft, 11 Small Laser Transmitter Assemblies, 3 System Processors/Repeaters, 14 AN/AAR-54 Missile Warning Sensors, User Data Module Cards and Control Interface Units, Multi-role Electro-Optic End-to-End test set, Card Memory, Smart Cards, and Support Equipment, Consumables, and Flight Test/Certification. Also included are tools and test equipment, support equipment, spare and repair parts, publications and technical documents, personnel training and training equipment, U.S. Government and contractor technical assistance, and other related elements of logistics and program support. The estimated cost is $110 million.

This proposed sale will contribute to the foreign policy and national security of the United States by helping to improve the security of a friendly country which has been, and continues to be, an important force for political stability and economic progress in the Middle East.

Qatar requests these capabilities to provide for the protection of its head-of-state aircraft fleet. LAIRCM will provide increased protection from missile threats. The proposed purchase of LAIRCM will enhance the safety of Qatar's political leadership, promoting stability and global engagement of a friendly country.

The proposed sale of this equipment and support will not alter the basic military balance in the region.

The prime contractor will be Northrop Grumman Corporation of Rolling Meadows, Illinois. There are no known offset agreements proposed in connection with this potential sale.

Implementation of this proposed sale will require U.S. Government or contractor representatives to travel to Qatar for a period of 10 years to provide program and technical support and training.

There will be no adverse impact on U.S. defense readiness as a result of this proposed sale.

Transmittal No. 13-08

Notice of Proposed Issuance of Letter of Offer Pursuant to Section 36(b)(1) of the Arms Export Control Act

Annex

Item No. vii

(vii) Sensitivity of Technology:

1. The AN/AAQ-24(V) LAIRCM is a self-contained, directed energy countermeasures system designed to protect aircraft from infrared-guided surface-to-air missiles. The system features digital technology and micro-miniature solid-state electronics. The system operates in all conditions, detecting incoming missiles and jamming infrared-seeker equipped missiles with aimed bursts of laser energy.

2. LAIRCM system software, including Operational Flight Program and jam codes, is classified Secret.

3. If a technologically advanced adversary were to obtain knowledge of the specific hardware and software elements, the information could be used to develop countermeasures or equivalent systems which might reduce system effectiveness or be used in the development of a system with similar or advanced capabilities.

[FR Doc. 2013-12337 Filed 5-22-13; 8:45 am]

BILLING CODE 5001-06-P